DEPARTMENT OF TRANSPORTATION

Federal Aviation Administration

14 CFR Part 71

[Airspace Docket No. 99-AAL-18]

Revision of Class E Airspace; Unalaska, AK; Correction

AGENCY: Federal Aviation Administration (FAA), DOT.

ACTION: Final rule, correction.

SUMMARY: This action corrects the error in the geographic description of a final rule that was published in the Federal Register on April 24, 2000 (65 FR 21644), Airspace Docket 99-AAL-18. The final rule revised the class E airspace at Unalaska, AK.

EFFECTIVE DATE: 0901 UTC, June 15, 2000.

FOR FURTHER INFORMATION CONTACT: Robert Durand, Operations Branch, AAL-531, Federal Aviation Administration, 222 West 7th Avenue, Box 14, Anchorage, AK 99513-7587; telephone number (907) 271-5898; fax: (907) 271-2850; email: Bob.Durand@faa.gov. Internet address: http://www.alaska.faa.gov/at.

SUPPLEMENTARY INFORMATION:

History

Federal Register Document 00-10015, Airspace Docket 99-AAL-18, published on April 24, 2000 (65 FR 21644), revised the Class E airspace area at Unalaska, AK. The coordinates for the Unalaska Airport are in error. The coordinates for the Unalaska Airport should read: lat. 53° 54′ 01″ N., long. 166° 32′ 37″ W. This action corrects this error.

Correction to Final Rule

Accordingly, pursuant to the authority delegated to me, the error for the Class E airspace, Unalaska, AK, as published in the Federal Register April 24, 2000 (FR Document 00-10015), is corrected as follows:

1. On page 21645, Column 1, in the airspace description for Unalaska Airport, line 2, correct the coordinates to read “[lat. 53° 54′ 01″ N., long. 166° 32′ 37″ W.]”.

Issued in Anchorage, AK, on June 6, 2000.
Willis C. Nelson,
Manager, Air Traffic Division, Alaskan Region.

[FR Doc. 00-14863 Filed 6-13-00; 8:45 am]

BILLING CODE 4910-13-P